DEPARTMENT OF TRANSPORTATION

Federal Aviation Administration

Fifty-Seventh RTCA SC-224 Standards for Airport Security Access Control Systems Plenary

AGENCY: Federal Aviation Administration (FAA), U.S. Department of Transportation (DOT).

ACTION: Fifty Seventh RTCA SC-224 Standards for Airport Security Access Control Systems Plenary.

SUMMARY: The FAA is issuing this notice to advise the public of a meeting of Fifty Seventh RTCA SC-224 Standards for Airport Security Access Control Systems Plenary.

DATES: The meeting will be held May 10, 2018 10:00 a.m.-1:00 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC, 20036, or by telephone at (202) 833-9339, fax at (202) 833-9434, or website at http://www.rtca.org.

SUPPLEMENTARY INFORMATION: Pursuant to section 10(a) (2) of the Federal Advisory Committee Act (Pub. L. 92-463, 5 U.S.C., App.), notice is hereby given for a meeting of the Fifty Seventh RTCA SC-224 Standards for Airport Security Access Control Systems Plenary. The agenda will include the following:

1. Welcome/Introductions/Administrative Remarks

2. Review/Approve Previous Meeting Summary

3. TSA Report

4. Report on Document Distribution Mechanisms

5. Report on the New Guidelines and Other Safe Skies Reports

6. Review/Resolution of DO-230I FRAC Comments

7. Approve DO-230I for Presentation to PMC

8. TOR Changes

9. Action Items for Next Meeting

10. Time and Place of Next Meetings

11. Any Other Business

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 17, 2018.
Michelle Swearingen,
Systems and Equipment Standards Branch, AIR-6B0, Policy and Innovation Division, AIR-600, Federal Aviation Administration.

[FR Doc. 2018-08273 Filed 4-19-18; 8:45 am]

BILLING CODE 4910-13-P